DEPARTMENT OF AGRICULTURE

National Agricultural Statistics Service

Notice of Intent To Seek Approval To Create a New Information Collection

AGENCY: National Agricultural Statistics Service, USDA.

ACTION: Notice and request for comments.

SUMMARY: In accordance with the Paperwork Reduction Act of 1995, this notice announces the intention of the National Agricultural Statistics Service (NASS) to seek approval to conduct a new survey. The Irrigation Organizations Survey will be conducted in early 2020 referencing 2019 as the target year. A similar survey was last conducted by the U.S. Census Bureau in 1978. The new survey supports the call for Federal research and data on drought resiliency under the National Drought Resilience Partnership (NDRP) initiative, providing valuable input to Federal agencies and other stakeholders involved in resource assessment, conservation, and analysis. This survey will be conducted through a cooperative agreement between the USDA National Agricultural Statistics Service (NASS) and the Economic Research Service (ERS).

DATES: Comments on this notice must be received by June 10, 2019 to be assured of consideration.

ADDRESSES: You may submit comments, identified by docket number 0535-NEW, by any of the following methods:

• Email: ombofficer@nass.usda.gov. Include the docket number above in the subject line of the message.

• E-fax: (855) 838-6382.

• Mail: Mail any paper, disk, or CD-ROM submissions to: David Hancock, NASS Clearance Officer, U.S. Department of Agriculture, Room 5336 South Building, 1400 Independence Avenue SW, Washington, DC 20250-2024.

• Hand Delivery/Courier: Hand deliver to: David Hancock, NASS Clearance Officer, U.S. Department of Agriculture, Room 5336 South Building, 1400 Independence Avenue SW, Washington, DC 20250-2024.

FOR FURTHER INFORMATION CONTACT: Kevin L. Barnes, Associate Administrator, National Agricultural Statistics Service, U.S. Department of Agriculture, (202) 720-2707. Copies of this information collection and related instructions can be obtained without charge from David Hancock, NASS—OMB Clearance Officer, at (202)690-2388 or at ombofficer@nass.usda.gov.

SUPPLEMENTARY INFORMATION:

Title: 2019 Irrigation Organizations Survey.

OMB Control Number: 0535-NEW.

Expiration Date of Previous Approval: None.

Type of Request: Intent to Seek Approval to create a New Information Collection.

Abstract: The 2019 Irrigation Operations Survey will be conducted through a cooperative agreement between the USDA National Agricultural Statistics Service (NASS) and the Economic Research Service (ERS). This agreement is for the development and implementation of a survey of irrigation organizations—defined to include irrigation districts and other entities that supply water (primarily surface water) directly to agricultural users, as well as groundwater management districts that may influence the supply of groundwater for irrigation. While NASS regularly surveys agricultural producers who irrigate every five years through the Irrigation and Water Management Surveys (formerly called the Farm and Ranch Irrigation Survey), the last census of irrigation organizations was conducted in 1978 by the U.S. Census Bureau. The sector has undergone substantial change in the past forty years, with consolidation in surface water organizations, particularly among ditch companies, and many new organizations overseeing groundwater access. A new survey of irrigation organizations would collect local, district-scale information, including the adoption of alternative types of water allocation institutions and conservation policies that impact farm-level drought resilience and adaptation to long-run water scarcity. The work supports the call for Federal research and data on drought resiliency under the National Drought Resilience Partnership (NDRP) initiative, providing valuable input to Federal agencies and other stakeholders involved in resource assessment, conservation, and analysis. The development of this important economic agricultural database serves the best interest of USDA, the agricultural community, and the Nation.

The project develops a nationally representative survey of irrigation water-supply management organizations. Data collected through the survey would include information compiled under the 1978 Census—such as organizational and governance structure, land area and farms, storage and conveyance facilities and services, water volumes by source, and costs and revenues. Additional data collected would involve water allocation institutions and drought mitigation measures. The survey of irrigation organizations would extend the scope of organizations to encompass groundwater management districts. The survey questionnaire would be developed by NASS and ERS, with input from Federal agency partners and other stakeholders.

Authority: A foundation for coordinated action on climate change preparedness and resilience across the Federal Government was established by Executive Order 13514 of October 5, 2009 (Federal Leadership in Environmental, Energy, and Economic Performance), and the Interagency Climate Change Adaptation Task Force led by the Council on Environmental Quality (CEQ), the Office of Science and Technology Policy (OSTP), and the National Oceanic and Atmospheric Administration (NOAA). In addition, through the U.S. Global Change Research Program (USGCRP), established by section 103 of the Global Change Research Act of 1990 (15 U.S.C. 2933), and agency programs and activities, the Federal Government will continue to support scientific research, observational capabilities, and assessments necessary to improve our understanding of and response to climate change and its impacts on the Nation.

Individually identifiable data that will be collected under this authority are governed by Section 1770 of the Food Security Act of 1985 as amended, 7 U.S.C. 2276, which requires USDA to afford strict confidentiality to non-aggregated data provided by respondents. This Notice is submitted in accordance with the Paperwork Reduction Act of 1995, Public Law 104-13 (44 U.S.C. 3501, et seq.) and Office of Management and Budget regulations at 5 CFR part 1320.

NASS also complies with OMB Implementation Guidance, “Implementation Guidance for Title V of the E-Government Act, Confidential Information Protection and Statistical Efficiency Act of 2002 (CIPSEA),” Federal Register, Vol. 72, No. 115, June 15, 2007, p. 33362. The law guarantees respondents that their individual information will be kept confidential. NASS uses the information only for statistical purposes and publishes only aggregate data. These data are used by Congress when developing or changing farm programs. Many national and state programs are designed or allocated based on census data, i.e., soil conservation projects, funds for cooperative extension programs, and research funding. Private industry uses the data to provide more effective production and distribution systems for the agricultural community.

Estimate of Burden: Public reporting burden for this collection of information is estimated to average 45 minutes per response. Publicity materials and instruction sheets will account for about 5 minutes of additional burden per respondent. Respondents who refuse to complete the survey will be allotted 2 minutes of burden per attempt to collect the data.

Respondents: Water district managers and other entities that provide irrigation water to farmers.

Estimated Number of Respondents: 8,000.

Estimated Total Annual Burden on Respondents: 6,000 hours.

Comments: Comments are invited on: (a) Whether the proposed collection of information is necessary for the proper performance of the functions of the agency, including whether the information will have practical utility; (b) the accuracy of the agency's estimate of the burden of the proposed collection of information including the validity of the methodology and assumptions used; (c) ways to enhance the quality, utility, and clarity of the information to be collected; (d) ways to minimize the burden of the collection of information on those who are to respond, including through the use of appropriate automated, electronic, mechanical, technological, or other forms of information technology collection methods; and (e) comments relating to the proposed name change.

All responses to this notice will become a matter of public record and be summarized in the request for OMB approval.

Signed at Washington, DC, March 26, 2019.
Kevin L. Barnes,
Associate Administrator.

[FR Doc. 2019-07218 Filed 4-10-19; 8:45 am]

BILLING CODE 3410-20-P